DEPARTMENT OF THE INTERIOR

Fish and Wildlife Service

[FWS-R8-R-2009-N262; 81640-1265-0000-S3]

Farallon National Wildlife Refuge, San Francisco County, CA

AGENCY: Fish and Wildlife Service, Interior.

ACTION: Notice of availability: final comprehensive conservation plan and finding of no significant impact.

SUMMARY: We, the U.S. Fish and Wildlife Service (Service), announce the availability of our final comprehensive conservation plan (CCP) and finding of no significant impact (FONSI) for the Farallon National Wildlife Refuge (Refuge). In the CCP, we describe how we will manage the Refuge for the next 15 years.

DATES: The CCP and FONSI are available now. The FONSI was signed on September 24, 2009. Implementation of the CCP may begin immediately.

ADDRESSES: You may view or obtain copies of the final CCP and FONSI/EA by any of the following methods. You may request a hard copy or CD-ROM.

Agency Web Site: Download a copy of the document(s) at http://www.fws.gov/cno/refuges/farallon/.

E-mail: sfbaynwrc@fws.gov.

Mail: U.S. Fish and Wildlife Service, San Francisco Bay NWRC, Attn: Winnie Chan, 9500 Thornton Avenue, Newark, CA 94560.

In-Person Viewing or Pickup: Call 510-792-0222 to make an appointment during regular business hours at San Francisco Bay National Wildlife Refuge Complex, 1 Marshlands Road, Fremont, CA 94536.

Local Library: The final document is also available at the San Francisco Public Library, 100 Larkin Street, San Francisco, CA 94102, during regular library hours.

FOR FURTHER INFORMATION CONTACT: Winnie Chan, Refuge Planner, (510) 792-0222; sfbaynwrc@fws.gov.

SUPPLEMENTARY INFORMATION: With this notice, we finalize the CCP process for Farallon NWR. We announce our decision and the availability of the FONSI for the final CCP for Farallon in accordance with National Environmental Policy Act (NEPA) (40 CFR 1506.6(b)) requirements. We completed a thorough analysis of impacts on the human environment, which we included in the EA that accompanied the draft CCP.

The Refuge is located off the coast of San Francisco and is within San Francisco County. The 211-acre Refuge consists of four island groupings that were first designated as a Refuge in 1909, “as a preserve and breeding ground for native birds” (Executive Order 1043, Feb. 27, 1909). The Refuge supports the largest seabird breeding colony in the contiguous United States and provides wintering and nesting habitat for migratory seabirds and pinnipeds. In 1974, Congress enacted Public Law 93-550, which designated all the islands except for Southeast Island as the Farallon Wilderness, totaling 141 acres.

We made the Draft CCP and Environmental Assessment (Draft CCP/EA) available for a 112-day public review and comment period, which we announced via several methods, including press releases, updates to constituents, and a Federal Register notice (73 FR 78386, December 22, 2008). The Draft CCP/EA identified and evaluated four alternatives for managing the Refuge for the next 15 years. Alternative A was the no-action alternative, which described current Refuge management activities. Alternative B placed greater emphasis on wildlife monitoring and research, habitat restoration, eradication of nonnative species, and off-refuge outreach and education. Alternative C, which was identified as the preferred alternative, explored on-refuge visitor services opportunities. Alternative D reduced the human activities on the Refuge, including management actions to reduce wildlife disturbance.

We received more than 60 comment letters on the Draft CCP/EA during the review period. Many comment letters expressed concerns about allowing public access on the Refuge. In response to these comments, we decided to select Alternative B as the new preferred alternative. We incorporated comments we received into the CCP when possible, and we responded to the comments in an appendix to the CCP. In the FONSI, we selected Alternative B for implementation and made it the basis for the CCP. The FONSI documents our decision and is based on the information and analysis contained in the EA.

Alternative B represents the most environmentally preferred alternative because it would expand resource management needs and off-refuge public opportunities. Habitat restoration and removal of non-native species would be conducted. Visitor opportunities and environmental education would focus on off-refuge activities through improved coordination and use of new technology.

The selected alternative best meets the Refuges' purposes, vision and goals; contributes to the Refuge System mission; addresses the significant issues and relevant mandates; and is consistent with principles of sound fish and wildlife management. Based on the associated environmental assessment, this alternative is not expected to result in significant environmental impacts and therefore does not require an environmental impact statement.

Dated: January 4, 2010.
Ren Lohoefener,
Regional Director, Pacific Southwest Region, Sacramento, California.

[FR Doc. 2010-2052 Filed 1-29-10; 8:45 am]

BILLING CODE 4310-55-P